ENVIRONMENTAL PROTECTION AGENCY

[ER-FRL-8590-9]

Environmental Impact Statements and Regulations; Availability of EPA Comments

Availability of EPA comments prepared pursuant to the Environmental Review Process (ERP), under section 309 of the Clean Air Act and Section 102(2) (c) of the National Environmental Policy Act as amended. Requests for copies of EPA comments can be directed to the Office of Federal Activities at 202-564-7146.

An explanation of the ratings assigned to draft environmental impact statements (EISs) was published in FR dated April 6, 2008 (73 FR 19833).

Draft EISs

EIS No. 20080375, ERP No. D-NOA-B91005-00, Amendment 3 to the Northeast Skate Complex Fishery Management Plan, Implementation of New Management Measures to Rebuild Overfished Skate Stocks, End Overfishing of Skate Fisheries, Gulf of Maine (GOM), Georges Bank (GB), South New England and Mid-Atlantic Regions.

Summary: EPA does not object to the proposed project. Rating LO.

EIS No. 20080414, ERP No. D-COE-D39038-00, PROGRAMMATIC—Oyster Restoration in Chesapeake Bay Including the Use of a Native and/or Nonnative Oyster, Implementation, Chesapeake Bay, MD and VA.

Summary: EPA believes that the introduction of non-native oyster species to the Chesapeake Bay, could be environmentally unsatisfactory to public health and the Bay ecosystem. Rating EU2.

EIS No. 20080508, ERP No. D-COE-F35047-OH, Lorain Harbor. Ohio Federal Navigation Project, Dredged Material Management Plan, Implementation, Lorain Harbor, Lorain County, Ohio.

Summary: EPA does not object to the proposed action. Rating LO.

EIS No. 20080519, ERP No. D-NPS-D61062-PA, White-tailed Deer Management Plan, Develop a Deer Management Strategy that Support Protection, Preservation and Restoration of Native Vegetation, Implementation, Valley Forge National Historical Park, King of Prussia, PA.

Summary: EPA does not object to the proposed action. Rating LO.

EIS No. 20080520, ERP No. D-CGD-A11082-00, USCG Pacific Operations: Districts 11 Area, California and Districts 13 Area, Oregon and Washington, Improve the Protection and Conservation of Marine Protected Species and Marine Protected Areas, CA, OR and WA.

Summary: EPA does not object to the proposed project. Rating LO.

EIS No. 20080527, ERP No. D-AFS-K65350-CA, Modoc National Forest Motorized Travel Management Plan, Implementation, National Forest Transportation System (NFTS), Modoc, Lassen and Siskiyou Counties, CA.

Summary: EPA expressed environmental concerns about impacts from continued use of roads and trails within or adjacent to fens, wet meadows, riparian habitat, and vernal pools. Rating EC2.

EIS No. 20080539, ERP No. D-USA-A10078-00, Gulf of Mexico Range Complex (GOMEX), Proposed Action is to Support and Conduct Current and Emerging Training and RDT&E Operations, TX, MS, AL and FL.

Summary: EPA does not object to the proposed project. Rating LO.

EIS No. 20080143, ERP No. DA-COE-B32009-MA, Boston Harbor Federal Deep Draft Navigation Improvement Project, To Evaluate the Feasibility of Channel Deepening and Related Berth Improvements at the Port of Boston, Chelsea and Revere, Boston, MA.

Summary: EPA expressed environmental objections because of the lack of information relative to the extent and impacts of blasting and the proposal to create rock reefs. Rating EO2.

Final EISs

EIS No. 20080433, ERP No. F-COE-C35013-00, PROGRAMMATIC—Port of New York and New Jersey Dredged Material Management Plan, Updated Information on 1999 Final EIS, Implementation, NY and NJ.

Summary: EPA expressed environmental concerns because some of the information in the Final EIS is outdated and is not consistent with the current Dredged Material Management Plan.

EIS No. 20080491, ERP No. F-SFW-B64005-00, Lake Umbagog National Wildlife Refuge, Comprehensive Conservation Plan, 15 Year Guidance for Management of Refuge Operations, Habitat and Visitor Services, Implementation, Coos County, NH and Oxford County, ME.

Summary: EPA does not object to the proposed project.

EIS No. 20080536, ERP No. F-COE-K39099-CA, Berth 97-109 (China Shipping) Container Terminal Project, Construction and Operation, Issuance of Section 404 (CWA) and Section 10 Rivers and Harbor Act Permits, Port of Los Angeles, Los Angeles County, CA.

Summary: EPA continues to have environmental concerns about significant and unavoidable impacts to air quality and environmental justice communities, and impacts to aquatic resources. EPA recommended commitments to mitigate air emissions to meet health risk reduction targets, implementation of a health impact assessment to identify appropriate mitigations for disproportionately affected neighboring communities and avoidance of fill.

Dated: February 24, 2009.
Robert W. Hargrove,
Director, NEPA Compliance Division, Office of Federal Activities.

[FR Doc. E9-4226 Filed 2-26-09; 8:45 am]

BILLING CODE 6560-50-P